DEPARTMENT OF TRANSPORTATION

Federal Aviation Administration

Advisory Circular (AC) 23-26, Synthetic Vision and Pathway Depictions on the Primary Flight Display

AGENCY: Federal Aviation Administration, DOT.

ACTION: Notice of issuance of advisory circular.

SUMMARY: This advisory circular (AC) sets forth an acceptable means, but not the only means, of showing compliance with Title 14 Code of Federal Regulations (14 CFR) part 23 for two new concepts in small airplanes. The two concepts are: (1) Synthetic Vision (SV), and (2) pathway depictions displaying the navigation course on the primary flight display. This AC addresses the two concepts in a head down display format only. This AC covers airplanes in the normal, utility, acrobatic, and commuter categories approved to fly under Instrument Flight Rules (IFR). Material in this AC is neither mandatory nor regulatory in nature and does not constitute a regulation. The draft advisory circular was issued for Public Comment on May 16, 2005 (70 FR 25873). When possible, comments received were used to modify the draft advisory circular.

DATES: Advisory Circular (AC) 23-26 was issued by the Manager, Small Airplane Directorate on December 22, 2005.

How To Obtain Copies: A paper copy of AC 23-22 may be obtained by writing to the U.S. Department of Transportation, Subsequent Distribution Office, DOT Warehouse, M-30, Ardmore East Business Center, 3341Q 75th Avenue, Landover, MD 20785, telephone 301-322-5377, or by faxing your request to the warehouse at 301-386-5394. The AC will also be available on the Internet at http://www.airweb.faa.gov/ac.

Issued in Kansas City, Missouri on December 22, 2005.
Kim Smith,
Manager, Small Airplane Directorate, Aircraft Certificate Service.

[FR Doc. E6-173 Filed 1-11-06; 8:45 am]

BILLING CODE 4910-13-P